FEDERAL MINE SAFETY AND HEALTH REVIEW COMMISSION

Sunshine Act Notice

April 27, 2018.

TIME AND DATE: 10:00 a.m., Wednesday, May 9, 2018.

PLACE: The Richard V. Backley Hearing Room, Room 511N, 1331 Pennsylvania Avenue NW, Washington, DC 20004 (enter from F Street entrance).

STATUS: Open.

MATTERS TO BE CONSIDERED: The Commission will hear oral argument in the matter Secretary of Labor v. The American Coal Company, Docket No. LAKE 2011-13 (Issues include whether the Judge erred by applying an incorrect legal standard in denying the Secretary's motion to approve settlement.)

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO ARGUMENT: 1-(866) 867-4769, Passcode: 678-100.

Sarah L. Stewart,
Deputy General Counsel.

[FR Doc. 2018-09292 Filed 4-27-18; 4:15 pm]

BILLING CODE 6735-01-P